DEPARTMENT OF THE INTERIOR

Bureau of Indian Affairs

Final Environmental Impact Statement for the Proposed Spokane Tribe of Indians West Plains Casino and Mixed Use Project, City of Airway Heights, Spokane County, WA

AGENCY: Bureau of Indian Affairs, Interior.

ACTION: Notice of Availability.

SUMMARY: This notice advises the public that the Bureau of Indian Affairs (BIA) as lead agency, with the Spokane Tribe of Indians (Tribe), National Indian Gaming Commission (NIGC), Washington State Department of Transportation (WSDOT), the City of Airway Heights (City), Spokane County, the Federal Aviation Administration (FAA) and the U.S. Department of the Air force (Air Force) serving as cooperating agencies, intends to file a Final Environmental Impact Statement (FEIS) with the U.S. Environmental Protection Agency (EPA) for the Spokane Tribe of Indians West Plains Casino and Mixed Use Project, City of Airway Heights, Spokane County, Washington, and that the FEIS is now available for public review.

DATES: The Record of Decision on the proposed action will be issued on or after 30 days from the date the EPA publishes its Notice of Availability in the Federal Register. Any comments on the FEIS must arrive on or before 30 days following the date the EPA publishes its Notice of Availability in the Federal Register.

ADDRESSES: You may mail or hand deliver written comments to Mr. Stanley Speaks, Northwest Regional Director, Bureau of Indian Affairs, Northwest Region, 911 Northeast 11th Avenue, Portland, Oregon 97232.

FOR FURTHER INFORMATION CONTACT: Dr. B.J. Howerton, Bureau of Indian Affairs, Northwest Region, 911 Northeast 11th Avenue, Portland, Oregon 97232; fax (503) 231-2275; phone (503) 231-6749.

SUPPLEMENTARY INFORMATION:

Background: The Tribe has requested that the Secretary of the Interior issue a two-part determination under Section 20 of the Indian Gaming Regulatory Act (IGRA) for Class III gaming on 145 acres held in Federal trust for the Tribe in the City of Airway Heights adjacent to the unincorporated West Plains area of Spokane County, Washington. The project site is located immediately northwest of the intersection of U.S. Highway 2 (S-2) and Craig Road.

The Proposed Project consists of the following components: (1) Issuance of a two-part determination by the Secretary of the Interior; and (2) development of a casino-resort facility, parking structure, site retail, commercial building, tribal cultural center, and police/fire station within the project site. At full build-out, the proposed casino-resort facility would have approximately 98,442 square-feet of gaming floor and a 300-room hotel. The hotel tower would not exceed 145 feet above ground level. Access to the project site would be provided via three driveways along US-2 and three driveways along Craig Road.

The following alternatives are considered in the FEIS: (1) Proposed Casino and Mixed-Use Development; (2) Reduced Casino and Mixed-Use Development; (3) Non-Gaming Mixed-Use Development; and (4) No Action/No Development. Environmental issues addressed in the FEIS include geology and soils, water resources, air quality, biological resources, cultural and paleontological resources, socioeconomic conditions (including environmental justice), transportation and circulation, land use, public services, noise, hazardous materials, aesthetics, cumulative effects, and indirect and growth inducing effects.

The BIA serves as the Lead Agency for compliance with the National Environmental Policy Act (NEPA). The BIA has afforded other government agencies and the public extensive opportunity to participate in the preparation of the FEIS. The BIA held a public scoping meeting for the project on September 16, 2009, in the City of Airway Heights, Washington. A Notice of Availability for the Draft EIS was published in the Federal Register on March 2, 2012 (77 FR 12873) and announced a 45-day review period ending on April 16, 2012. In response to public requests, the BIA published a notice of the reopening of the comment period in the Federal Register on April 26, 2012 (77 FR 24976). The extended comment period ended on May 16, 2012. The total comment period for the Draft EIS was 75 days. The BIA held a public hearing on the Draft EIS on March 26, 2012, in the City of Airway Heights.

Directions for Submitting Comments: Please include your name, return address, and the caption: “FEIS Comments, Spokane Tribe of Indians West Plains Development Project,” on the first page of your written comments.

Locations where the FEIS is Available for Review: The FEIS will be available for review at the BIA Spokane Agency Office located at Agency Square Road, Building 201, Wellpinit, Washington 99040; the Airway Heights Branch of the Spokane County Library District located at 1213 South Lundstrom Street, Airway Heights, Washington 99001; and the Spokane Public Library located at 906 West Main Street, Spokane, Washington 99201. The FEIS is also available online at: http://www.westplainseis.com.

To obtain a compact disk copy of the FEIS, please provide your name and address in writing or by voicemail to Dr. B.J. Howerton, Environmental Protection Specialist, Bureau of Indian Affairs, Northwest Regional Office. Contact information is listed in the FOR FURTHER INFORMATION CONTACT section of this notice. Individual paper copies of the FEIS will be provided upon payment of applicable printing expenses by the requestor for the number of copies requested.

Public Comment Availability: Comments, including names and addresses of respondents, will be available for public review at the BIA mailing address shown in the ADDRESSES section of this notice, during regular business hours, 8 a.m. to 4:30 p.m., Monday through Friday, except holidays. Before including your address, telephone number, email address, or other personal identifying information in your comment, you should be aware that your entire comment—including your personal identifying information—may be made publicly available at any time. While you can ask us in your comment to withhold your personal identifying information from public review, we cannot guarantee that we will be able to do so.

Authority: This notice is published pursuant to Sec. 1503.1 of the Council of Environmental Quality Regulations (40 CFR parts 1500 through 1508) and Department of the Interior Regulations (43 CFR part 46), implementing the procedural requirements of the NEPA of l969, as amended (42 U.S.C. 4371, et seq.), and is in the exercise of authority delegated to the Assistant Secretary—Indian Affairs by 209 DM 8.

Dated: September 20, 2012.
Donald E. Laverdure,
Assistant Secretary, Indian Affairs.

[FR Doc. 2013-02158 Filed 1-31-13; 8:45 am]

BILLING CODE 4310-W7-P